DEPARTMENT OF THE INTERIOR

Bureau of Land Management

[OR-958-6310-PF-01-24 1A]

Extension of Approved Information Collection, OMB Number 1004-0168

AGENCY: Bureau of Land Management, Interior.

ACTION: Notice and request for comments.

SUMMARY: In accordance with the Paperwork Reduction Act of 1995, the Bureau of Land Management (BLM) is announcing its intention to request extension of an existing approval to collect certain information from private landowners which will allow BLM to determine road use and maintenance fees for logging road right-of-way permits issued under the O&C Logging Road Right-of-Way regulations (43 CFR 2812).

DATES: You must submit your comments to BLM at the appropriate address below on or before February 12, 2001. BLM will not necessarily consider any comments received after the above date.

ADDRESSES: Comments may be mailed to: Regulatory Affairs Group (630), Bureau of Land Management, 1849 C Street NW, Room 401LS, Washington, DC 20240.

Comments may be sent via Internet to: WOComment@blm.gov. Please include “ATTN: 1004-0168” and your name and return address in your Internet message.

Comments may be hand-delivered to the Bureau of Land Management, Administrative Record, Room 401, 1620 L Street, NW., Washington, DC.

Comments will be available for public review at the L Street address during regular business hours (7:45 a.m. to 4:15 p.m.), Monday through Friday.

FOR FURTHER INFORMATION CONTACT: John Styduhar, BLM Oregon State Office, on (503) 952-6454 (Commercial or FTS). Persons who use a telecommunications device for the deaf (TDD) may call the Federal Information Relay Service (FIRS) at 1-800-877-8330, 24 hours a day, seven days a week, to contact Mr. Styduhar.

SUPPLEMENTARY INFORMATION: 5 CFR 1320.12(a) requires BLM to provide 60-day notice in the Federal Register concerning a collection of information contained in regulations found in 43 CFR 2812 to solicit comments on (a) whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology. BLM will receive and analyze any comments sent in response to this notice and include them with its request for approval from the Office of Management and Budget under 44 U.S.C. 3501 et seq.

Private landowners in western Oregon obtain authorization to transport their timber over BLM-controlled roads under Title V of the Federal Land Policy and Management Act of 1976 (43 U.S.C. 1761). The logging road right-of-way permits that BLM issues are subject to the requirements of the O&C Logging Road Right-of-Way regulations (43 CFR Part 2812). As a condition of each right-of-way permit, a permittee must provide BLM with a certified statement containing the amount of timber removed, the lands from which the timber was removed, and the BLM roads used to transport the timber. BLM collects this information on a quarterly basis using the Form OR-2812-6, Report of Road Use.

The monies BLM receives for road use contribute to the recovery of costs incurred in the construction of forest access roads. Fees collected for road maintenance are reimbursements for services BLM provided to maintain roads the permittees use. If BLM did not require the collection of information included in the Report of Road Use Form, it would not be possible to determine payment amounts, ledger account status, or monitor a permittee's compliance with the terms of the permit. The costs for services BLM provides would not be collected in a timely manner if we reduce the frequency of reporting. This would have a direct effect on the ability of BLM to properly maintain its road system, protect the road investment, and provide safe and efficient access to the public lands.

Based on BLM's experience administering the activities described above, the public reporting burden for the information collected estimates to average 1 hour per response. The respondents include individuals, partnerships, and corporations engaged in the removal and transportation of timber and other forest products. The frequency of response is quarterly. The estimated number of responses per year totals 400. The estimated total annual burden is 1600 hours. BLM specifically requests your comments on its estimate of the amount of time that it takes to prepare a response.

BLM will summarize all responses to this notice and include them in the request for Office of Management and Budget approval. All comments will also become a matter of public record.

Dated: December 6, 2000.
Michael Schwartz,
BLM Information Collection Clearance Officer.

[FR Doc. 00-31497 Filed 12-11-00; 8:45 am]

BILLING CODE 4310-84-M